DEPARTMENT OF THE TREASURY

31 CFR Part 103

RIN 1506-AA28

Financial Crimes Enforcement Network; Anti-Money Laundering Programs for Dealers in Precious Metals, Stones, or Jewels

Correction

In proposed rule document 03-4171 beginning on page 8480 in the issue of Friday, February 21, 2003 make the following correction:

§103.140 [Corrected]

On page 8486, in §103.140, in the first column, in paragraph (d), in the fifth line, “ May 22, 2003” should read, “[Insert date that is 90 days after the date on which the final regulation to which this notice of proposed rulemaking relates is published in the Federal Register]”.

[FR Doc. C3-4171 Filed 3-12-03; 8:45 am]

BILLING CODE 1505-01-D

DEPARTMENT OF AGRICULTURE

Forest Service

36 CFR Part 219

RIN 0596-AB86

National Forest System Land and Resource Management Planning

Correction

In proposed rule document 03-5116 appearing on page 10420 in the issue of Wednesday, March 5, 2003, make the following correction:

On page 10420, in the second column, the subject heading is corrected to read as set forth above.

[FR Doc. C3-5116 Filed 3-12-03; 8:45 am]

BILLING CODE 1505-01-D

DEPARTMENT OF THE TREASURY

Financial Management Service

Privacy Act of 1974; System of Records

Correction

In notice document 03-4457 beginning on page 8964 in the issue of Wednesday, February 26, 2003, make the following correction:

On page 8965, in the second column, in the sixth line from the bottom, the heading “TREASURY/FMS .015” should read, “TREASURY/FMS .016”.

[FR Doc. C3-4457 Filed 3-12-03; 8:45 am]

BILLING CODE 1505-01-D